DEPARTMENT OF ENERGY

Federal Energy Regulatory Commission

[Docket No. CP07-53-000]

Downeast Pipeline, LLC; Notice of Public Availability of Pro Forma Tariff Filing

March 30, 2007.

This is to provide notice that the pro forma tariff filed on December 22, 2006, by Downeast Pipeline, LLC as part of Exhibit P to its certificate application in Docket No. CP07-53-000 is now publicly accessible through the Commission's eLibrary records information system.

Philis J. Posey,
Acting Secretary.

[FR Doc. E7-6318 Filed 4-4-07; 8:45 am]

BILLING CODE 6717-01-P